GENERAL SERVICES ADMINISTRATION

[OMB Control No. 3090-0027; Docket 2011-0001; Sequence 8]

General Services Administration Acquisition Regulation; Submission for OMB Review; Contract Administration, Quality Assurance (GSAR Parts 542 and 546; GSA Form 1678 and GSA Form 308)

AGENCY: Office of the Chief Acquisition Officer, GSA.

ACTION: Notice of request for comments regarding an extension to an existing OMB clearance.

SUMMARY: Under the provisions of the Paperwork Reduction Act, the General Services Administration will be submitting to the Office of Management and Budget (OMB) a request to review and approve an extension of a previously approved information collection requirement regarding contract administration, and quality assurance. A notice was published in the Federal Register at 76 FR 78010, on December 15, 2011. No comments were received.

Public comments are particularly invited on: Whether this collection of information is necessary and whether it will have practical utility; whether our estimate of the public burden of this collection of information is accurate and based on valid assumptions and methodology; and ways to enhance the quality, utility, and clarity of the information to be collected.

DATES: Submit comments on or before: April 27, 2012.

FOR FURTHER INFORMATION CONTACT: Ms. Dana Munson, Procurement Analyst, General Services Acquisition Policy Division, at (202) 357-9652 or via email to dana.munson@gsa.gov.

ADDRESSES: Submit comments identified by Information Collection 3090-0027, Contract Administration and Quality Assurance (GSAM Part 542 and Part 546; GSA Form 1678 and GSA Form 308), by any of the following methods:

• Regulations.gov: http://www.regulations.gov. Submit comments via the Federal eRulemaking portal by inputting “Information Collection 3090-0027, Contract Administration and Quality Assurance (GSAM Part 542 and Part 546; GSA Form 1678 and GSA Form 308)”, under the heading “Enter Keyword or ID” and selecting “Search”. Select the link “Submit a Comment” that corresponds with “Information Collection 3090-0027, Contract Administration and Quality Assurance (GSAM Part 542 and Part 546; GSA Form 1678 and GSA Form 308)”. Follow the instructions provided at the “Submit a Comment” screen. Please include your name, company name (if any), and “Information Collection 3090-0027, Contract Administration and Quality Assurance (GSAM Part 542 and Part 546; GSA Form 1678 and GSA Form 308)”, on your attached document.

• Fax: 202-501-4067.

• Mail: General Services Administration, Regulatory Secretariat (MVCB), 1275 First Street NE., Washington, DC 20417. ATTN: Hada Flowers/IC 3090-0027, Contract Administration and Quality Assurance (GSAM Part 542 and Part 546; GSA Form 1678 and GSA Form 308).

Instructions: Please submit comments only and cite Information Collection 3090-0027, Contract Administration and Quality Assurance (GSAM Part 542 and Part 546; GSA Form 1678 and GSA Form 308), in all correspondence related to this collection. All comments received will be posted without change to http://www.regulations.gov, including any personal and/or business confidential information provided.

SUPPLEMENTARY INFORMATION:

A. Purpose

Under certain contracts, because of reliance on contractor inspection in lieu of Government inspection, GSA's Federal Acquisition Service (FAS) requires documentation from its contractors to effectively monitor contractor performance and ensure that it will be able to take timely action should that performance be deficient.

B. Annual Reporting Burden

Respondents: 4,604.

Responses per respondent: 25.38.

Total Responses: 116,869.

Hours per response: .067.

Total Burden Hours: 7,830.

Obtaining Copies of Proposals: Requesters may obtain a copy of the information collection documents from the General Services Administration, Regulatory Secretariat (MVCB), 1275 First Street NE., Washington, DC 20417, telephone (202) 501-4755. Please cite OMB Control No. 3090-0027, Contract Administration, Quality Assurance (GSAR Parts 542 and 546; GSA Form 1678, and GSA Form 308), in all correspondence.

Dated: March 19, 2012.
Joseph A. Neurauter,
Director, Office of Acquisition Policy & Senior Procurement Executive.

[FR Doc. 2012-7422 Filed 3-27-12; 8:45 am]

BILLING CODE 6820-61-P